DEPARTMENT OF ENERGY

Federal Energy Regulatory Commission

Notice of Application Accepted for Filing and Soliciting Motions To Intervene and Protests

July 19, 2001.

Take notice that the following hydroelectric application has been filed with the Commission and is available for public inspection.

a. Type of Application: Amended application for new license.

b. Project No.: 1354.

c. Date filed: July 28, 2001.

d. Applicant: Pacific Gas and Electric Company.

e. Name of Project: Crane Valley.

f. Location: On Willow Creek, North Fork Willow Creek, South Fork Willow Creek, Chilkoot Creek, and Chiquito Creek within the San Joaquin River Basin. The project is in Madera and Fresno counties near the town of Oakhurst, California.

The project includes 738.11 acres of federal lands within the Sierra National Forest.

g. Filed Pursuant to: Federal Power Act, 16 U.S.C. 791(a)-825(r).

h. Applicant Contact: Mr. James Holeman (415) 973-6891 or Mr. Nicholas Markevich (415) 973-5358.

i. FERC Contact: Jim Fargo at (202) 219-2848; e-mail james.fargo@ferc.fed.us

j. Deadline for filing motions to intervene and protests: 60 days from the issuance date of this notice.

All documents (original and eight copies) should be filed with: David P. Boergers, Secretary, Federal Energy Regulatory Commission, 888 First Street, NE, Washington, DC 20426. Comments, Motions to intervene and protests may be filed electronically via the Internet in lieu of paper. See 18 CFR 385.2001(a)(1)(iii) and the instructions on the Commission's web site (http://www.ferc.gov) under the “e-Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. The Crane Valley—with 26.7 megawatts (MW) of normal operating capacity—has storage, diversion, water conveyance, and power production facilities.

• The Crane Valley reservoir (Bass Lake) with a maximum storage capacity of 45,410 acre-feet (ac-ft) and Chilkoot reservoir, upstream of Crane valley, with a maximum capacity of 310 ac-ft.

• A small diversion on a tributary to the West Fork Chiquito Creek that brings water to Chilkoot reservoir

• A conveyance system—including three diversion dams, three forebays, one afterbay, and about 14 miles of canals, tunnels and flumes—linking these five powerhouses:

—Crane Valley, with 0.9 MW of normal operating capacity

—San Joaquin No. 3, with 3.4 MW of normal operating capacity

—San Joaquin No. 2, with 3.2 MW of normal operating capacity

—San Joaquin No. 1A, with 0.4 MW of normal operating capacity

—Wishon, with 18.8 MW of normal operating capacity

Historically, the project produces 123.3 gigawatthours (GWh) of electrical energy annually and has a dependable capacity of 8.4 MW.

m. All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

Copies of this filing are on file with the Commission and are available for public inspection. This filing may also be viewed on the web at http://www.ferc.gov using the “RIMS” link, select “Docket#” and follow the instructions (call 202-208-2222 for assistance). A copy is also available for inspection and reproduction at the address in item h above.

David P. Boergers,
Secretary.

[FR Doc. 01-18488 Filed 7-24-01; 8:45 am]

BILLING CODE 6717-01-P